DEPARTMENT OF HOMELAND SECURITY

Coast Guard

[Docket No. USCG-2009-0169]

Head and Gut Fleet; Guidance for Implementation of the Alternate Compliance and Safety Agreement Program

AGENCY: Coast Guard, DHS.

ACTION: Notice of availability.

SUMMARY: The Coast Guard announces the availability of guidance for implementation of the Alternate Compliance and Safety Agreement program for “head and gut fleet” vessels. The guidance clarifies various elements contained in the original 2006 policy letter relating to that program, and in a 2006 Federal Register notice that announced the availability of that policy letter. Among these elements is the issuance of a conditional load line exemption for head and gut vessels.

FOR FURTHER INFORMATION CONTACT: If you have questions on this notice, call or e-mail M. M. Rosecrans, Chief, Fishing Vessel Safety Division (CG-5433), U.S. Coast Guard; telephone 202-372-1245, e-mail Michael.M.Rosecrans@uscg.mil.

If you have questions on viewing or submitting material to the docket, call Renee V. Wright, Program Manager, Docket Operations, telephone 202-366-9826.

SUPPLEMENTARY INFORMATION:

Background and Purpose

In the August 22, 2006 Federal Register (71 FR 48932), we announced the availability of Coast Guard G-PCV policy letter 06-03, concerning the applicability of vessel classification and load line requirements set by 46 CFR Part 28, Subpart F, and 46 CFR Subchapter E to “head and gut fleet” vessels. The head and gut (H&G) fleet consists of approximately 60 vessels that operate in the Gulf of Alaska and the Bering Sea/Aleutian Island fisheries. Crews on H&G vessels not only catch fish, but also freeze and package the catch for later distribution to foreign and domestic markets. Due to the age of most H&G vessels and the costs associated with compliance, the majority of the H&G fleet cannot comply with classification and load line requirements. The policy announced in 2006 provides a safe and economical alternative: H&G vessel owners may apply for and be granted an exemption from those requirements, so long as they meet Alternate Compliance and Safety Agreement (ACSA) program elements that provide an equivalent level of safety. The ACSA Program was developed in 2006 to process individual requests for exemption letters under 46 CFR 28.60. The Program allows exemptions to the class and Load Line requirements while at the same time creating improved safety requirements for these vessels, thereby avoiding the incentive to operate strictly as uninspected fishing vessels. ACSA vessel owners work with the Coast Guard to develop alternative standards for their vessels, and compliance with those standards is facilitated through voluntary vessel examination by Coast Guard personnel. Guidance for implementation of the ACSA program is available at http://www.fishsafe.info/acsaguidance. This guidance document reiterates and clarifies information already provided in the ACSA Program governing guidance of the G-PCV Policy Letter 06-03, as supplemented by the ACSA Implementation Message issued in 2008, which is attached as Annex 4 at the end of the guidance document.

Specifically, the guidance document provides new details with respect to the exemption of H&G vessels from the load line requirements, which is contained in the ACSA Implementation Message. Because H&G vessels engage in catching fish, they meet the definition of “fishing vessel” under the International Convention on Load Lines, 1966, and are not subject to international load line requirements. In accordance with 46 U.S.C. 5108(a)(1), a vessel entitled to an exemption under an international agreement may also be granted an exemption under U.S. law. Therefore, a District Commander may exempt an owner's H&G vessel from domestic voyage load line requirements, pursuant to 46 CFR 42.03-30, upon verification by the Officer in Charge, Marine Inspection that the vessel is fully enrolled and in compliance with the elements of the ACSA program. This exemption may be granted at the same time the vessel is granted an exemption from classification requirements, pursuant to 46 CFR 28.60, and noted in the same exemption letter in lieu of a separate load line exemption certificate.

Dated: March 18, 2009.
Rear Admiral James A. Watson,
Director of Prevention Policy.

[FR Doc. E9-6422 Filed 3-23-09; 8:45 am]

BILLING CODE 4910-15-P